DEPARTMENT OF HOMELAND SECURITY

Federal Emergency Management Agency

[Docket ID FEMA-2012-0003]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1252) | City of Birmingham (11-04-6111P) | The Honorable William Bell, Mayor, City of Birmingham, 710 North 20th Street, Birmingham, AL 35203 | Planning and Engineering Office, 710 North 20th Street, 5th floor, Birmingham, AL 35203 | June 25, 2012 | 010116
Mobile (FEMA Docket No.: B-1252) | Unincorporated areas of Mobile County (11-04-5872P) | The Honorable Connie Hudson, President, Mobile County Commission, P.O. Box 1443, Mobile, AL 36633 | Mobile County Government Plaza, 205 Government Street, 3rd Floor, South Tower, Mobile, AL 36644 | July 9, 2012 | 015008
Mobile (FEMA Docket No.: B-1252) | Unincorporated areas of Mobile County (11-04-6441P) | The Honorable Connie Hudson, President, Mobile County Commission, P.O. Box 1443, Mobile, AL 36633 | Mobile County Government Plaza, 205 Government Street, 3rd Floor, South Tower, Mobile, AL 36644 | July 9, 2012 | 015008
Arizona:
Coconino (FEMA Docket No.: B-1252) | City of Flagstaff (11-09-3784P) | The Honorable Sara Presler, Mayor, City of Flagstaff, 211 West Aspen Avenue, Flagstaff, AZ 86001 | City Hall, Stormwater Management Section, 211 West Aspen Avenue, Flagstaff, AZ 86001 | June 4, 2012 | 040020
Coconino (FEMA Docket No.: B-1252) | City of Flagstaff (11-09-3786P) | The Honorable Sara Presler, Mayor, City of Flagstaff, 211 West Aspen Avenue, Flagstaff, AZ 86001 | City Hall, Stormwater Management Section, 211 West Aspen Avenue, Flagstaff, AZ 86001 | June 29, 2012 | 040020
Pinal (FEMA Docket No.: B-1252) | City of Eloy (11-09-3507P) | The Honorable Byron K. Jackson, Mayor, City of Eloy, 628 North Main Street, Eloy, AZ 85131 | 628 North Main Street, Eloy, AZ 85131 | June 15, 2012 | 040083
Santa Cruz (FEMA Docket No.: B-1252) | Unincorporated areas of Santa Cruz County (11-09-3703P) | The Honorable Rudy Molera, Chairman, Santa Cruz County Board of Supervisors, 2150 North Congress Drive, Nogales, AZ 85621 | 2150 North Congress Drive, Room 117, Nogales, AZ 85621 | June 18, 2012 | 040090
California:
Los Angeles (FEMA Docket No.: B-1252) | City of Burbank (11-09-3187P) | The Honorable Jess Talamantes, Mayor, City of Burbank, 275 East Olive Avenue, Burbank, CA 91502 | Public Works Department, 150 North 3rd Street, Burbank, CA 91502 | June 28, 2012 | 065018
Los Angeles (FEMA Docket No.: B-1252) | City of Burbank (12-09-0407P) | The Honorable Jess Talamantes, Mayor, City of Burbank, 275 East Olive Avenue, Burbank, CA 91502 | Public Works Department, 150 North 3rd Street, Burbank, CA 91502 | June 25, 2012 | 065018
Los Angeles (FEMA Docket No.: B-1252) | City of Los Angeles (12-09-0407P) | The Honorable Antonio R. Villaraigosa, Mayor, City of Los Angeles, City Hall, 200 North Spring Street, Los Angeles, CA 90012 | 6500 South Spring Street, Suite 1200, Los Angeles, CA 90014 | June 25, 2012 | 060137
Los Angeles (FEMA Docket No.: B-1252) | City of Santa Clarita (12-09-0632P) | The Honorable Laurie Ender, Mayor, City of Santa Clarita, 23920 West Valencia Boulevard, Santa Clarita, CA 91355 | 23920 West Valencia Boulevard, Suite 300, Santa Clarita, CA 91355 | June 15, 2012 | 060729
Los Angeles (FEMA Docket No.: B-1252) | Unincorporated areas of Los Angeles County (11-09-4035P) | The Honorable Zev Yaroslavsky, Chairman, Los Angeles County Board of Supervisors, 500 West Temple Street, Room 821, Los Angeles, CA 90012 | Department of Public Works, 900 South Fremont Avenue, Alhambra, CA 91803 | June 25, 2012 | 065043
Colorado:
Adams (FEMA Docket No.: B-1252) | City of Commerce City (11-08-0367P) | The Honorable Sean Ford, Sr., Mayor, City of Commerce City, 7887 East 60th Avenue, Commerce City, CO 80022 | 5291 East 60th Avenue, Commerce City, CO 80022 | April 11, 2012 | 080006
Adams (FEMA Docket No.: B-1252) | City of Commerce City (11-08-0747P) | The Honorable Sean Ford, Sr., Mayor, City of Commerce City, 7887 East 60th Avenue, Commerce City, CO 80022 | 5291 East 60th Avenue, Commerce City, CO 80022 | June 13, 2012 | 080006
Adams (FEMA Docket No.: B-1252) | Unincorporated areas of Adams County (11-08-0747P) | The Honorable W.R. “Skip” Fischer, Chairman, Adams County Board of Commissioners, 4430 South Adams County Parkway, 5th Floor, Suite C5000A, Brighton, CO 80601 | 4430 South Adams County Parkway, 5th Floor, Suite C5000A, Brighton, CO 80601 | June 13, 2012 | 080001
Larimer (FEMA Docket No.: B-1252) | Town of Timnath (11-08-1110P) | The Honorable Jill Grossman-Belisle, Mayor, Town of Timnath, 4800 Goodman Street, Timnath, CO 80547 | 4100 Main Street, Timnath, CO 80547 | June 18, 2012 | 080005
Larimer (FEMA Docket No.: B-1252) | Unincorporated areas of Larimer County (11-08-1110P) | The Honorable Lew Gaiter III, Chairman, Larimer County Board of Commissioners, P.O. Box 1190, Fort Collins, CO 80522 | 200 West Oak Street, Fort Collins, CO 80521 | June 18, 2012 | 080101
Park (FEMA Docket No.: B-1252) | Unincorporated areas of Park County (11-08-1151P) | The Honorable Dick Hodges, Chairman, Park County Board of Commissioners, P.O. Box 1373, Fairplay, CO 80440 | 501 Main Street, Fairplay, CO 80440 | June 18, 2012 | 080139
Connecticut: Hartford, (FEMA Docket No.: B-1252) | Town of Avon (12-01-0826X) | The Honorable Mark Zacchio, Chairman, Avon Town Council, 60 West Main Street, Avon, CT 06001 | Town Hall, 60 West Main Street, Avon, CT 06001 | June 18, 2012 | 090021
Florida:
Charlotte (FEMA Docket No.: B-1252) | City of Punta Gorda (12-04-1783P) | The Honorable Bill Albers, Mayor, City of Punta Gorda, 326 West Marion Avenue, Punta Gorda, FL 33950 | 326 West Marion, Punta Gorda, FL 33950 | June 18, 2012 | 120062
Monroe (FEMA Docket No.: B-1252) | Unincorporated areas of Monroe County (12-04-0296P) | The Honorable Kim Wigington, Mayor Pro Tem, Monroe County, 500 Whitehead Street, Suite 102, Key West, FL 33040 | Monroe County Department of Planning and Environmental Resources, 2798 Overseas Highway, Marathon, FL 33050 | June 11, 2012 | 125129
Santa Rosa (FEMA Docket No.: B-1252) | Unincorporated areas of Santa Rosa County (11-04-7398P) | The Honorable Jim Williamson, Chairman, Santa Rosa County Commissioners, 6495 Caroline Street, Suite M, Milton, FL 32570 | Building Inspections, 6051 Old Bagdad Highway, Suite 202, Milton, FL 32583 | June 28, 2012 | 120274
Santa Rosa (FEMA Docket No.: B-1252) | Unincorporated areas of Santa Rosa County (11-04-7400P) | The Honorable Jim Williamson, Chairman, Santa Rosa County Commissioners, 6495 Caroline Street, Suite M, Milton, FL 32570 | Building Inspections, 6051 Old Bagdad Highway, Suite 202, Milton, FL 32583 | June 28, 2012 | 120274
Kentucky: Fayette (FEMA Docket No.: B-1252) | Lexington-Fayette Urban County Government (12-04-1259P) | The Honorable Jim Gray, Mayor, Lexington-Fayette Urban County Government, 200 East Main Street, Lexington, KY 40507 | Division of Planning, Current Planning Section, 101 East Vine Street, Lexington, KY 40507 | June 18, 2012 | 210067
South Dakota: Lincoln (FEMA Docket No.: B-1252) | Town of Tea (11-08-0969P) | The Honorable John Lawler, Mayor, Town of Tea, P.O. Box 128, Tea, SD 57064 | City Hall, 600 East 1st Street, Tea, SD 57064 | June 18, 2012 | 460143

(Catalog of Federal Domestic Assistance No. 97.022, “Flood Insurance.”)

James A. Walke,
Acting Deputy Associate Administrator for Mitigation, Department of Homeland Security, Federal Emergency Management Agency.

[FR Doc. 2012-31344 Filed 12-28-12; 8:45 am]

BILLING CODE 9110-12-P